Proclamation 8364 of April 22, 2009

Earth Day, 2009

By the President of the United States of America

A Proclamation

The story of the United States is inextricably tied to our vital natural resources. As we enter a new era filled with challenges and promise, we must protect our land, wildlife, water and air—the resources that have fueled our growth and prosperity as a Nation and enriched our lives. Doing this not only fulfills a sacred obligation to our children and grandchildren, but also provides an opportunity to stimulate economic growth.

To achieve these ends, no issue deserves more immediate attention than global warming. Scientists have already observed alarming shifts in the natural world, including thawing permafrost, melting glaciers, and rising sea levels.

Climate change presents a serious test for humankind, but it also provides an opportunity for great innovation and adaptation. The United States has risen to such challenges before, and Earth Day inspires us to transcend differences among nations so we may lead the world in protecting our planet from this global threat.

Americans across the country are working hard to help limit the pollutants that cause climate change and reduce their impact on the environment, but we must do more. Individuals and organizations can plant trees, use energy efficient lightbulbs, drive fuel efficient cars, hold clean-up drives, and teach young people about environmental preservation. Small changes in our daily lives can have a big impact on our environment. Individuals can walk, bike, and use public transportation; buy products with less packaging; and recycle and reuse paper, plastic, glass, and aluminum more often. American families can also save money by choosing energy efficient products, turning lights off, unplugging appliances, and cutting back on heating and air conditioning.

Government and business alike must also take serious and sustained action to protect our valuable natural inheritance. Through investments in scientific research and development, and the vigorous pursuit of alternative and renewable energy, we can create millions of green jobs that allow us to reduce greenhouse gases and excel in a competitive global economy. My Administration is committed to increasing fuel economy standards and putting more Plug-In Hybrid cars on the road, weatherizing millions of homes, and catalyzing private efforts to build a clean energy future. My Administration is also working to achieve a comprehensive energy and climate policy, one that will lessen our dependence on foreign oil, make the U.S. the global leader in clean energy technology, and prevent the worst impacts of climate change.

President Theodore Roosevelt emphasized our obligation to future Americans, saying, “of all the questions which can come before this nation, short of the actual preservation of its existence in a great war, there is none which compares in importance with the great central task of leaving this land even a better land for our descendants than it is for us.” Heeding President Roosevelt’s call, and carrying forward his spirit of determination, we must commit ourselves to protecting our environment and ensuring the health of our planet so we may share the magnificent blessings of our Earth with our grandchildren.

We do this not only to acknowledge the environment’s central role in the development of our Nation but also to recognize the strong ecological interdependence among nations. History has shown that as we sow, so too shall we reap. Let us rededicate ourselves to a world that provides bountiful harvests for us all not just today, but for many generations to come.

NOW, THEREFORE, I, BARACK OBAMA, President of the United States of America, by virtue of the authority vested in me by the Constitution and laws of the United States, do hereby proclaim April 22, 2009, as Earth Day. I encourage all citizens to help protect our environment and contribute to a healthy, sustainable world.

IN WITNESS WHEREOF, I have hereunto set my hand this twenty-second day of April, in the year of our Lord two thousand nine, and of the Independence of the United States of America the two hundred and thirty-third.

[FR Doc. E9-9622

Filed 4-23-09; 11:15 am]

Billing code 3195-W9-P